FEDERAL MARITIME COMMISSION

[DOCKET NO. 24-28]

Baylink Shipping Inc., Complainant v. ZIM Integrated Shipping Services, Ltd., Respondent; Notice of Filing of Complaint and Assignment

Served: November 25, 2024.

Notice is given that a complaint has been filed with the Federal Maritime Commission (the “Commission”) by Baylink Shipping Inc. (the “Complainant”) against ZIM Integrated Shipping Services, Ltd. (the “Respondent”). Complainant states that the Commission has subject-matter jurisdiction over the complaint pursuant to the Shipping Act of 1984, as amended, 46 U.S.C. 40101 et seq. and personal jurisdiction over Respondent as a common carrier, as defined in 46 U.S.C. 40102(7).

Complainant is a corporation organized and existing under the laws of the State of New York with its principal place of business in Floral Park, New York.

Complainant identifies Respondent as a global ocean carrier with a United States office located in Norfolk, Virginia.

Complainant alleges that Respondent violated 46 U.S.C. 41102(c); 41104(a)(14), (a)(15), and (d)(2); and 46 CFR 545.4 and 545.5. Complainant alleges these violations arose from the release of a container to a party other than the named consignee in the bill of lading, the assessment of detention charges on this container, and other acts and omissions of Respondent.

An answer to the complaint must be filed with the Commission within 25 days after the date of service.

The full text of the complaint can be found in the Commission's electronic Reading Room at https://www2.fmc.gov/readingroom/proceeding/24-28/. This proceeding has been assigned to the Office of Administrative Law Judges. The initial decision of the presiding judge shall be issued by November 25, 2025, and the final decision of the Commission shall be issued by June 8, 2026.

David Eng,
Secretary.

[FR Doc. 2024-28213 Filed 11-29-24; 8:45 am]

BILLING CODE 6730-02-P